DEPARTMENT OF ENERGY

Federal Energy Regulatory Commission

Notice of Application Tendered for Filing with the Commission, Application and Applicant-Prepared EA Accepted for Filing, Solicitation of Motions To Intervene and Protests, Comments, and Final Recommendations, Terms and Conditions, and Prescriptions, and Intent To Prepare One Multi-Project NEPA Document

May 3, 2002.

Take notice that the following hydroelectric applications and applicant-prepared environmental assessment have been filed with the Commission and are available for public inspection.

a. Type of Application: Two New Major Licenses.

b. Project Nos.: 2364-012 and 2365-023.

c. Date Filed: April 26, 2002.

d. Applicant: Madison Paper Industries.

e. Name of Projects: Abenaki and Anson Projects.

f. Location: On the Kennebec River, in the towns of Anson and Madison, Somerset County, Maine. The projects do not occupy any federal lands.

g. Filed Pursuant to: Federal Power Act 16 U.S.C. §§ 791 (a)—825(c).

h. Applicant Contact: Christopher C. Bean; Vice-President of Engineering, Maintenance, and Utilities; Main Street; P.O. Box 129, Madison, ME; (207) 696-1195. The applicant requests that copies of all correspondence be provided to Maureen Winters, Project Manager, Kleinschmidt Associates, 75 Main Street, P.O. Box 576, Pittsfield, ME 04967; (207) 487-3328.

i. FERC Contact: Nan Allen, (202) 219-2938, e-mail: nan.allen@ferc.gov.

j. Cooperating agencies: We are asking Federal, state, local, and tribal agencies with jurisdiction and/or special expertise with respect to environmental issues to cooperate with us in the preparation of the environmental document. Agencies who would like to request cooperating status should follow the instructions for filing comments described in item k below.

k. Deadline for filing motions to intervene and protests, comments, final recommendations, terms and conditions, prescriptions and requests for cooperating agency status: July 2, 2002.

All documents (original and eight copies) should be filed with: Magalie R. Salas, Secretary, Federal Energy Regulatory Commission, 888 First Street, NE, Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests, comments, recommendations, terms and conditions, and prescriptions may be filed electronically via the Internet in lieu of paper. See 18 CFR 385.2001(a)(1)(iii) and the instructions on the Commission's Web site (http://www.ferc.gov) under the “e-Filing” link.

l. These applications have been accepted for filing. At this time we do not anticipate the need for preparing a draft Environmental Assessment (EA). We intend to prepare one multi-project environmental document. The EA will include our recommendations for operating procedures and environmental enhancement measures that should be part of any new license issued by the Commission. However, should substantive comments requiring reanalysis be received on the NEPA document, we would consider preparing a subsequent NEPA document.

m. The Abenaki Project consists of: (1) A concrete gravity overflow dam with a 784-foot-long spillway section, 3-foot-high wooden flashboards, and heights from several to about 25 feet; (2) an existing 520 acre-foot reservoir; (3) an existing 830-foot-long by 160-foot-wide forebay; (4) a powerhouse containing seven turbine-generating units with a total installed capacity of 16.977 megawatts (MW) and a hydraulic capacity of 4,980 cubic feet per second (cfs); (5) a 1,950-foot-long bypass reach; (6) a 3,400-foot-long transmission line; and (7) appurtenant facilities. The project is estimated to generate an average of 85.6 million kilowattshours (kwh) annually. The dam and existing project facilities are owned by MPI.

MPI proposes to resurface the existing dam at the Abenaki Project, replace the existing wooden flashboards at the Abenaki dam with an inflatable flashboard system, install a minimum-flow release gate at the existing Abenaki dam, and install a 2.94 MW turbine/generator unit in the existing Abenaki powerhouse.

The Anson Project consists of: (1) 630-foot-long dam, a 5.6-foot-high inflatable flashboard system, and a height that varies from 10 to 36 feet; (2) an existing 5,860 acre-foot reservoir; (3) a powerhouse containing five turbine-generating units with a total installed capacity of 9 MW and a hydraulic capacity of 6,000 cfs; and (4) appurtenant facilities. The project is estimated to generate an average of 51.5 million kwh annually. The dam and existing project facilities are owned by the applicant.

n. A copy of the application is on file with the Commission and is available for public inspection. This filing may also be viewed on the Web at http://www.ferc.gov using the “RIMS” link—select “Docket #” and follow the instructions (call 202-208-2222 for assistance). A copy is also available for inspection and reproduction at the address in h above.

o. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

The Commission directs, pursuant to Section 4.34(b) of the Regulations (see Order No. 533 issued May 8, 1991, 56 FR 23108, May 20, 1991) that all comments, recommendations, terms and conditions, and prescriptions concerning the application and APEA be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project numbers of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to these applications must be accompanied by proof of service on all persons listed in the service list prepared by the Commission in this proceeding, in accordance with 18 CFR 4.34(b) and 385.2010.

Magalie R. Salas,
Secretary.

[FR Doc. 02-11597 Filed 5-8-02; 8:45 am]

BILLING CODE 6717-01-P